DEPARTMENT OF DEFENSE

Department of the Air Force

Board of Visitors of the U.S. Air Force Academy; Notice of Federal Advisory Committee Meeting

AGENCY: Department of the Air Force, Board of Visitors of the U.S. Air Force Academy, Department of Defense.

ACTION: Notice of Federal Advisory Committee meeting.

SUMMARY: The Department of Defense (DoD) is publishing this notice to announce that the following Federal Advisory Committee meeting of the Board of Visitors (BoV) of the U.S. Air Force Academy (USAFA) will take place.

DATES: Wednesday November 28, 2018 from 9 a.m. to 4:15 p.m. (Eastern Time).

ADDRESSES: Capitol Visitor Center, SVC-201, Washington, DC.

FOR FURTHER INFORMATION CONTACT: Dan Anderson, Designated Federal Officer (DFO), at (703) 693-9575 (Voice), 703-693-4244 (Facsimile), daniel.l.anderson55.civ@mail.mil (Email). Mailing address is SAF/MRM, 1660 Air Force Pentagon, Washington, DC 20330-1660. Website: https://www.usafa.edu/about/bov/.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is to review morale and discipline, social climate, athletics, diversity, curriculum and other matters relating to the USAFA.

Meeting Accessibility: Open to the public subject to the availability of space. Registration of members of the public who wish to attend the meeting will begin upon publication of this meeting notice and end three business days (23 November) prior to the start of the meeting. All members of the public must contact Lt. Col. Caltagirone at the phone number or email listed below in the section titled Seating is limited and is on a first-to-arrive basis. Attendees will be asked to provide their name, title, affiliation, and contact information to include email address and daytime telephone number to the point of contact (POC) listed in the FOR FURTHER INFORMATION CONTACT section. Any interested person may attend the meeting, file written comments or statements with the committee, or make verbal comments from the floor during the public meeting, at the times, and in the manner, permitted by the BoV.

Written Statements: Pursuant to 41 CFR 102-3.105(j) and 102-3.140 and section 10(a)(3) of the FACA, the public or interested organizations may submit written comments or statements to the BoV about its mission and/or the topics to be addressed in this public meeting. Written comments or statements should be submitted to Lt. Col. Caltagirone, via electronic mail, the preferred mode of submission, at the email address listed in the FOR FURTHER INFORMATION CONTACT section in the following formats: Adobe Acrobat or Microsoft Word. The comment or statement must include the author's name, title, affiliation, address, and daytime telephone number. Written comments or statements being submitted in response to the agenda set forth in this notice must be received by the committee DFO at least five (5) business days (21 November) prior to the meeting so that they may be made available to the BoV Chairman for their consideration prior to the meeting. Written comments or statements received after this date (21 November) may not be provided to the BoV until its next meeting. Please note that because the BoV operates under the provisions of the FACA, as amended, all written comments will be treated as public documents and will be made available for public inspection.

Verbal Comments: Members of the public will be permitted to make verbal comments during the meeting only at the time and in the manner allowed herein. If a member of the public is interested in making a verbal comment at the open meeting, that individual must submit a request, with a brief statement of the subject matter to be addressed by the comment, at least three (3) business days (23 November) in advance, via electronic mail, the preferred mode of submission, at the email address listed in the FOR FURTHER INFORMATION CONTACT section. The BoV DFO will log each request to make a comment, in the order received, and the DFO and BoV Chairman will determine whether the subject matter of each comment is relevant to the BoV's mission and/or the topics to be addressed in this public meeting. A period near the end of the meeting will be available for verbal public comments. Members of the public who have requested to make a verbal comment and whose comments have been deemed relevant under the process described in this paragraph, will be allotted no more than five (5) minutes during this period, and will be invited to speak in the order in which their requests were received by the DFO. For the benefit of the public, rosters that list the names of BoV members and any releasable materials presented during the BoV meeting shall be made available upon request.

FOR FURTHER INFORMATION CONTACT: Lieutenant Colonel Angela Caltagirone, Directorate of Force Management Policy, BoV Executive Secretary, AF/A1PT, 1040 Air Force Pentagon, Washington, DC 20330, (703) 692-4572, angela.k.caltagirone.mil@mail.mil.

Henry Williams,
Acting Air Force Federal Register Liaison Officer.

[FR Doc. 2018-24349 Filed 11-6-18; 8:45 am]

BILLING CODE 5001-10-P